DEPARTMENT OF TRANSPORTATION

Federal Highway Administration

[Docket No. FHWA 2006-26126]

Agency Information Collection Activities: Request for Comments for New Information Collection

AGENCY: Federal Highway Administration (FHWA), DOT.

ACTION: Notice and request for comments.

SUMMARY: The FHWA invites public comment about our intentions to request the Office of Management and Budget (OMB) approval for a new information collection, which is summarized below under SUPPLEMENTARY INFORMATION. We are required to publish this notice in the Federal Register by the Paperwork Reduction Act of 1995.

DATES: Please submit comments by December 26, 2006.

ADDRESSES: You may submit comments identified by DOT DMS Docket Number FHWA-2006-26126 to the Docket Clerk, by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

Docket: For access to the docket to read background documents or comments received go to http://dms.dot.gov at any time or to Room 401 on the plaza level of the Nassif Building, 400 Seventh Street, SW., Washington, DC, between 9 a.m. and 5 p.m., Monday through Friday, except Federal holidays.

FOR FURTHER INFORMATION CONTACT: Ms. Elissa Konove, Office of the Chief Financial Officer, HCF-10, (202) 366-4617, Fax (202) 366-7493, or e-mail elissa.konove@dot.gov. For legal questions, please contact Mr. Livaughn Chapman, Office of the Chief Counsel, (202) 366-8839, livaughn.chapman@fhwa.dot.gov; Federal Highway Administration, Department of Transportation, 400 Seventh Street, SW., Washington, DC 20590. Office hours are from 7:45 a.m. to 4:15 p.m., e.t. Monday through Friday, except Federal holidays.

SUPPLEMENTARY INFORMATION: Title: Request Forms for Fund Transfers to Other Agencies and Among Title 23 Programs.

Background:Sections 1108, 1119(b), 1935, and 1936 of Public Law 109-59, the Safe, Accountable, Flexible, Efficient Transportation Equity Act: A Legacy for Users (SAFETEA-LU) expanded the transferability of funds to other agencies and among programs. This notice establishes requirements for initiating the transferring of apportioned and allocated funds between entities and between projects and programs to carry out these provisions of law. The types of transfers affected by this notice are:

A. Transfer of funds from a State to the FHWA pursuant to U.S.C. Title 23, § 104(k)(3);

B. Transfer of funds from a State to a Federal Agency other than FHWA;

C. Transfer of funds from a State to another State;

D. Transfer of funds from Federal Transit Administration to FHWA;

E. Transfer of funds between programs; and

F. Transfer of funds between projects.

The party initiating the fund transfer must fill out a FHWA transfer request form. Information required to fill out a transfer form will include the requester's contact information; a description of the program/project the transfer will come from and go to, the fiscal year, the program code, a demo ID or an urban area when applicable, and the amount to be transferred. The form must be approved by the applicable State Department of Transportation and concurred on by the correlating FHWA Division Office.

Respondents: 50 State Transportation Departments, the District of Columbia, and Puerto Rico.

Frequency: As Needed.

Estimated Average Burden per Response: 30 minutes.

Estimated Total Annual Burden Hours: It is estimated that a total of 600 responses will be received annually, which would equal a total annual burden of 300 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: October 19, 2006.
James R. Kabel,
Chief, Management Programs and Analysis Division.

[FR Doc. E6-17802 Filed 10-23-06; 8:45 am]

BILLING CODE 4910-22-P